DEPARTMENT OF AGRICULTURE

Forest Service

Lincoln National Forest, New Mexico, Integrated Non-Native Invasive Plant Project

AGENCY: Forest Service, USDA.

ACTION: Notice of Intent to prepare an Environmental Impact Statement.

SUMMARY: The Lincoln National Forest (LNF) proposes to implement an integrated Forest-wide management strategy to control spread of non-native invasive plants (NNIP) within the LNF. The proposal utilizes several management tools, including registered herbicides, biological agents, controlled grazing, manual/mechanical methods, and adaptive management. Invasive plants designated by the State of New Mexico as noxious weeds are the primary focus of this project. By definition, noxious weeds pose a potential threat to human health and/or economic activity. The LNF proposes to manage occurrences of other NNIP species that pose an identifiable threat to native species diversity, ecological function, or resilience of native habitats.

DATES: Comments concerning scope of analysis must be received by November 29, 2010. The draft environmental impact statement is expected January 2011 and the final environmental impact statement is expected April 2011.

ADDRESSES: Send written comments to NNIP Project, Lincoln National Forest, 3463 Las Palomas Road, Alamogordo, NM 88310. Comments may also be sent via e-mail to comments-southwestern-lincoln@fs.fed.us, or via facsimile to (575) 434-7218.

Comments received in response to this solicitation, including names and addresses of those who comment, will become part of the public record for this proposed action. Comments submitted anonymously will be accepted and considered, however anonymous comments will not provide the respondent with standing to participate in subsequent administrative review or judicial review.

FOR FURTHER INFORMATION CONTACT: Sabrina Flores, Interdisciplinary Team Leader, Lincoln National Forest—SO, 3463 Las Palomas Road, Alamogordo, NM 88310. Telephone: (575) 434-7237 or electronic address: sflores@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

As provided by direction in Executive Order 13112, the Forest Service Manual, and LNF Land and Resource Management Plan, as amended (Forest Plan), the primary purpose of and need for this project is to protect and restore resilience, abundance, and biological diversity of desired native plant communities. This project is part of the LNF's ongoing ecosystem restoration effort. Management activities would result in Forest-wide progress toward site- or situation-specific needs, for all management areas within the LNF. This proposal is needed because existing populations of NNIP occur within the LNF and are degrading natural communities. Inventoried and new or unknown infestations continue to spread unchecked. Past projects to control NNIP on the LNF have been authorized with budgetary and geographic limitations. These limitations have kept the LNF from keeping pace with the extent in which several NNIP species spread and encroach into new areas.

Proposed Action

The LNF proposes to implement an integrated weed management (IWM) strategy as defined in the Forest Service Manual for prevention, eradication, suppression, and reduction of existing and future NNIP infestations. The IWM strategy is based on ecological factors and includes consideration of site conditions, other resource values, resource uses, NNIP characteristics, and potential effectiveness of control measures for specific circumstances. The proposed action includes both non-treatment and treatment practices: Strategies for awareness and education in order to prevent new infestations; early detection of and rapid response to newly discovered infestations; control of outbreaks of existing infestations that threaten sensitive and native habitats; containment of established infestations by maintaining treatments along spread pathways and previously treated areas; and cost-effective maintenance of vegetation treatments including those designed to reduce hazardous fuels and improve wildlife habitat; use of all treatment “tools” such as chemical, mechanical, biological, and controlled grazing management practices; treatment followed by restoration and revegetation (as appropriate), as well as monitoring of NNIP-impacted lands; and close coordination across jurisdictional boundaries through cooperative partnerships.

Cooperating Agencies

The LNF initiated correspondence with 61 entities as an invitation as a cooperating agency on September 17, 2010.

Possible Alternatives

The No Action alternative will serve as a baseline for comparison of alternatives. Under the No Action alternative, the LNF would continue to deal with NNIP species as authorized under existing National Environmental Policy Act (NEPA) documents including; current noxious weed and other site-specific projects. Additional action alternatives may be developed to respond to significant issues, if any.

Responsible Official

The Forest Service Southwestern Regional Forester is the responsible official for portions of the project that propose herbicide treatment of NNIP species within congressionally designated wilderness and research natural areas within the LNF. The LNF Forest Supervisor is the responsible official for all other portions of the LNF and non-herbicide treatment within wilderness and research natural areas.

Nature of Decision To Be Made

The Forest Service Southwestern Regional Forester and the LNF Forest Supervisor will decide whether or not management of NNIP species on the LNF will be Forest-wide with a more comprehensive approach, and if so, what resource protection measures and monitoring requirements will be required for implementation.

Preliminary Issues

Several analysis efforts related to the treatment of NNIP species on National Forests in New Mexico and Arizona (Region 3) have been completed or are currently on-going at this time. Unintended detrimental environmental effects to non-target species could result from the application of herbicide or release of biological agents. The application of herbicide could result in an increase of toxic chemicals in groundwater.

Scoping Process

This notice of intent initiates the scoping process, which guides development of the environmental impact statement (EIS). To assist the LNF in identifying and considering issues and concerns about the proposed action, public comment opportunities will continue to be provided throughout the EIS process. In addition to taking written comments, the LNF will consider holding a series of public meetings during the fall/winter of 2010 to ensure that those who are interested have every opportunity to provide additional information or comments and to identify any issues or concerns they may have relative to the proposed action. It is important that reviewers provide their comments at such times and in such a way that they are useful to the agency's preparation of the EIS. Therefore, comments should be provided prior to close of the comment period and should clearly articulate the reviewer's concerns and contentions. The submission of timely and specific comments can affect a reviewer's ability to participate in subsequent administrative review or judicial review. Comments received in response to this solicitation, including names and addresses of those who comment, will be considered part of the public record on this proposed action and will be available for public inspection. Comments submitted anonymously will be accepted and considered; however, respondents who submit anonymous comments will not be granted standing to appeal the subsequent decision under 36 Code of Federal Regulation (CFR) Part 215 or judicial review. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied; the agency will return the submission and notify the requester that the comments may be resubmitted with or without name and address within a specified number of days.

Dated: September 23, 2010.
Garth Smelser,
Deputy Forest Supervisor.

[FR Doc. 2010-24545 Filed 9-29-10; 8:45 am]

BILLING CODE 3410-11-P